DEPARTMENT OF HOMELAND SECURITY

Federal Emergency Management Agency

44 CFR Part 65

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The Federal Emergency Management Agency (FEMA) makes the final determinations listed below of the modified BFEs for each community listed. These modified BFEs have been published in newspapers of local circulation and ninety (90) days have elapsed since that publication. The Mitigation Assistant Administrator of FEMA resolved any appeals resulting from this notification.

The modified BFEs are not listed for each community in this notice. However, this final rule includes the address of the Chief Executive Officer of the community where the modified BFEs determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by other Federal, State, or regional entities.

These modified BFEs are used to meet the floodplain management requirements of the NFIP and are also used to calculate the appropriate flood insurance premium rates for new buildings built after these elevations are made final, and for the contents in these buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arkansas: Benton (FEMA Docket No.: B-7712) | City of Rogers (07-06-0169P) | January 24, 2007; January 31, 2007; Arkansas Democrat Gazette | The Honorable Steve Womack, Mayor, City of Rogers, 301 West Chestnut Street, Rogers, AR 72756 | April 25, 2007 | 050013
California:
Contra Costa (FEMA Docket No.: B-7712) | Unincorporated areas of Contra Costa County (06-09-B006P) | January 18, 2007; January 25, 2007; Contra Costa Times | The Honorable Brian Swisher, Mayor, City of Brentwood, 708 Third Street, Brentwood, CA 94513 | April 26, 2007 | 060439
Riverside (FEMA Docket No.: B-7712) | City of Murrieta (06-09-BD71P) | January 18, 2007; January 25, 2007; The Californian | The Honorable Kelly Seyarto, Mayor, City of Murrieta, 26442 Beckman Court, Murrieta, CA 92562 | April 26, 2007 | 060751
Santa Barbara (FEMA Docket No.: B-7712) | Unincorporated areas of Santa Barbara County (07-09-0251X) | January 18, 2007; January 25, 2007; Santa Barbara News Press | The Honorable Joni L. Gray, Chairperson, Santa Barbara County, 511 East Lakeside Parkway, Suite 126, Santa Maria, CA 93455 | February 2, 2007 | 060331
Colorado: Summit (FEMA Docket No.: B-7712) | Town of Breckenridge (06-08-B667P) | January 12, 2007; January 19, 2007; Summit County Journal | The Honorable Ernie Blake, Mayor, Town of Breckenridge, P.O. Box 168, Breckenridge, CO 80424 | December 7, 2006 | 080172
Idaho: Boise (FEMA Docket No.: B-7712) | Unincorporated areas of Boise County (06-10-B184P) | January 4, 2007; January 11, 2007; The Idaho Statesman | The Honorable Roger B. Jackson, Chairman, Boise County, Board of Commissioners, 420 Main Street, Idaho City, ID 83631 | April 12, 2007 | 160205
Ohio: Lake (FEMA Docket No.: B-7712) | City of Mentor (06-05-BY78P) | January 12, 2007; January 19, 2007; The News-Herald | The Honorable Ray Kirchner, Mayor, City of Mentor, 8500 Civic Center Boulevard, Mentor, OH 44060 | January 2, 2007 | 390317
Oklahoma:
Oklahoma (FEMA Docket No.: B-7712) | City of Oklahoma City (06-06-B396P) | January 11, 2007; January 18, 2007; The Oklahoman | The Honorable Mick Cornett, Mayor, City of Oklahoma City, 200 North Walker Street, Third Floor, Oklahoma City, OK 73102 | April 19, 2007 | 405378
Tulsa (FEMA Docket No.: B-7712) | City of Broken Arrow (06-06-BJ56P) | January 18, 2007; January 25, 2007; Tulsa World | The Honorable Richard Carter, Mayor, City of Broken Arrow, P.O. Box 610, Broken Arrow, OK 74012 | January 29, 2007 | 400236
Pennsylvania: Delaware (FEMA Docket No.: B-7712) | Township of Thornbury (07-03-0012P) | January 11, 2007; January 18, 2007; Delaware County Daily Times | The Honorable Lou Gagliardi, Chairman, Thornbury Township Board of Supervisors, 8 Township Drive, Cheyney, PA 19319 | December 18, 2006 | 425390
South Carolina:
Richland (FEMA Docket No.: B-7712) | Unincorporated areas of Richland County (06-04-BX98P) | January 19, 2007; January 26, 2007; The Columbia Star | Mr. J. Milton Pope, Interim County Administrator, Richland County P.O. Box 192, Columbia, SC 29202 | April 27, 2007 | 450170
Richland (FEMA Docket No.: B-7712) | Unincorporated areas of Richland County (06-04-BX99P) | January 19, 2007; January 26, 2007; The Columbia Star | The Honorable Anthony G. Mizzell, Chair, Richland County Council, 106 Wembley Street, Columbia, SC 29209 | April 27, 2007 | 450170
Richland (FEMA Docket No.: B-7712) | Town of Blythewood (06-04-C394P) | January 18, 2007; January 25, 2007; Country Chronicle | The Honorable Pete Amoth, Mayor, Town of Blythewood, P.O. Box 1004, Blythewood, SC 29016 | April 26, 2007 | 450258
Texas:
Bexar (FEMA Docket No.: B-7712) | City of San Antonio (06-06-BH85P) | January 11, 2007; January 18, 2007; Daily Commercial Recorder | The Honorable Phil Hardberger, Mayor, City of San Antonio, P.O. Box 839966, San Antonio, TX 78283 | January 29, 2007 | 480045
Bexar (FEMA Docket No.: B-7712) | Unincorporated areas of Bexar County (05-06-A499P) | January 11, 2007; January 18, 2007; Daily Commercial Recorder | The Honorable Nelson W. Wolff, Bexar County Judge, Bexar County Courthouse, 100 Dolorosa, Suite 1.20, San Antonio, TX 78205 | April 19, 2007 | 480035
Dallas (FEMA Docket No.: B-7712) | City of Dallas (06-06-BF15P) | January 11, 2007; January 18, 2007; Daily Commercial Record | The Honorable Laura Miller, Mayor, City of Dallas, 1500 Marilla Drive, Dallas, TX 75201 | April 19, 2007 | 480171
Wisconsin: Washington (FEMA Docket No.: B-7712) | Village of Germantown (06-05-BH45P) | January 18, 2007; January 25, 2007; West Bend Daily News | The Honorable Charles J. Hargan, President, Village of Germantown, Board of Trustees, P.O. Box 337, Germantown, WI 53022 | April 26, 2007 | 550472

(Catalog of Federal Domestic Assistance No. 97.022, “Flood Insurance.”)

Dated: May 24, 2007.
David I. Maurstad,
Federal Insurance Administrator of the National Flood Insurance Program, Federal Emergency Management Agency, Department of Homeland Security.

[FR Doc. E7-10965 Filed 6-6-07; 8:45 am]

BILLING CODE 9110-12-P